DEPARTMENT OF THE INTERIOR

National Park Service

[NPS-WASO-NAGPRA-17720; PPWOCRADN0-PCU00RP14.R50000]

Notice of Inventory Completion: Columbia University, Department of Anthropology, New York, NY

AGENCY: National Park Service, Interior.

ACTION: Notice.

SUMMARY: The Columbia University, Department of Anthropology, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Columbia University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Columbia University at the address in this notice by April 15, 2015.

ADDRESSES: Dr. Nan Rothschild, Department of Anthropology, Columbia University, 1200 Amsterdam Ave., New York, NY 10027, telephone (212) 854-4977, email roth@columbia.edu.

SUPPLEMENTARY INFORMATION: Notice is here given in accordance with the Native American Graves Protection and Repatriation Act (NAGPRA), 25 U.S.C. 3003, of the completion of an inventory of human remains under the control of Columbia University. The human remains were removed from Sheyenne-Cheyenne Site, Ransom County, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

The detailed assessment of the human remains was made by the Columbia University, Department of Anthropology, professional staff in consultation with representatives of the Cheyenne and Arapaho Tribes (previously listed as the Cheyenne-Arapaho Tribes of Oklahoma) and the Northern Cheyenne Tribe of the Northern Cheyenne Indian Reservation, Montana.

History and Description of the Remains

In 1938, human remains representing, at minimum, one individual were removed from Sheyenne-Cheyenne site in Ransom County, ND. The excavation was led by William Duncan Strong and jointly sponsored by Columbia University and the State Historical Society of North Dakota. Strong brought the human remains to the American Museum of Natural History (AMNH), where they were placed on “permanent loan.” The cranium had suffered extensive postmortem damage and was partially restored at the AMNH by Kenneth Mowbray at some date prior to 2002. In January 2002, a detailed assessment of the human remains was made by researchers at Columbia University, and in August 2011, the AMNH transferred the human remains to the Department of Anthropology at Columbia University. The remains consist of a cranium representing one adult individual. This individual was identified as Native American based on Strong's documentation and non-invasive assessment of cranial features. No known individual was identified. No associated funerary objects are present.

Strong, in his expedition field notes (National Anthropological Archives, Strong Papers, Box 21, Field Work 1938), refers to beginning excavations at Sheyenne-Cheyenne site on July 8, 1938 (p.19a). He writes of the discovery of a partial bundle burial just beyond the edge of the house. It is initially identified as Burial #12, and later as Burial 1 #12 at House 23. W. Raymond Wood in his 1955 publication refers to this site as the “Biesterfeldt or Sheyenne-Cheyenne Site (32RM1)” (Plains Anthropological Society 1955 3:3-12) and describes it as “the remains of a village of the formerly semi-sedentary Cheyenne Indians.” Strong writes in his field notes that the site was historically Cheyenne and was abandoned after a Chippewa attack in 1790, citing Libby, Swanton, Thompson, and others. Two years later, in Strong's 1940 work (Smithsonian Miscellaneous Collections, 100:353-394), he provides the date of 1770 for the abandonment of the site. He explained that Swanton (1930), drawing on Thompson, believed that the village had been burned not much before 1790, while Henry (1897) “refers to the same event as occurring about 1740.” At this point, Strong “assumed 1770 as a median date” (p. 371). Today, the Cheyenne are represented by the Cheyenne and Arapaho Tribes (previously listed as the Cheyenne-Arapaho Tribes of Oklahoma) and the Northern Cheyenne Tribe of the Northern Cheyenne Indian Reservation, Montana.

Determinations Made by Columbia University, Department of Anthropology

Officials of Columbia University, Department of Anthropology, have determined that:

• Pursuant to 25 U.S.C. 3001(9), the human remains described in this notice represent the physical remains of one individual of Native American ancestry.

• Pursuant to 25 U.S.C. 3001(2), there is a relationship of shared group identity that can be reasonably traced between the Native American human remains and the Cheyenne and Arapaho Tribes (previously listed as the Cheyenne-Arapaho Tribes of Oklahoma) and the Northern Cheyenne Tribe of the Northern Cheyenne Indian Reservation, Montana.

Additional Requestors and Disposition

Lineal descendants or representatives of any Indian tribe or Native Hawaiian organization not identified in this notice that wish to request transfer of control of these human remains should submit a written request with information in support of the request to Dr. Nan Rothschild, Department of Anthropology, Columbia University, 1200 Amsterdam Ave., New York, NY 10027, telephone (212) 854-4977, email roth@columbia.edu, by April 15, 2015. After that date, if no additional requestors have come forward, transfer of control of the human remains to the Cheyenne and Arapaho Tribes (previously listed as the Cheyenne-Arapaho Tribes of Oklahoma) and the Northern Cheyenne Tribe of the Northern Cheyenne Indian Reservation, Montana, may proceed.

The Columbia University, Department of Anthropology, is responsible for notifying the Cheyenne and Arapaho Tribes (previously listed as the Cheyenne-Arapaho Tribes of Oklahoma) and the Northern Cheyenne Tribe of the Northern Cheyenne Indian Reservation, Montana, that this notice has been published.

Dated: February 23, 2015.
Melanie O'Brien,
Acting Manager, National NAGPRA Program.

[FR Doc. 2015-05987 Filed 3-13-15; 8:45 am]

BILLING CODE 4312-50-P